DEPARTMENT OF DEFENSE

Defense Threat Reduction Agency; Privacy Act of 1974; Systems of Records

AGENCY: Defense Threat Reduction Agency, DoD.

ACTION: Notice To Amend a System of Records; HDTRA 004 Nuclear Weapons Accident Exercise Personnel Radiation Exposure Records.

SUMMARY: The Defense Threat Reduction Agency is amending a system of records notice to its existing inventory of record systems subject to the Privacy Act of 1974 (5 U.S.C. 552a), as amended.

DATES: This proposed action will be effective without further notice on September 23, 2005 unless comments are received that would result in a contrary determination.

ADDRESSES: Send comments to the General Counsel, Defense Threat Reduction Agency, 8725 John J. Kingman Road, Fort Belvoir, VA 22060-6201.

FOR FURTHER INFORMATION CONTACT: Ms. Brenda Carter at (703) 325-1205.

SUPPLEMENTARY INFORMATION: The Defense Threat Reduction Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: August 18, 2005.
Jeannette Owings-Ballard,
OSD Federal Register Liaison Officer, Department of Defense.

HDTRA 004

System name:

Nuclear Weapons Accident Exercise Personnel Radiation Exposure Records (December 14, 1998, 63 FR 68736).

Changes:

* * * * *

Authority for maintenance of the system:

Add to entry “U.S. Environmental Protection Agency, Radiation Protection Guidance for Federal Agencies for Occupational Exposure, January 1987; and Air Force Instruction 48-125, The Air Force Personnel Dosimetry Program.”

System manager(s) and address:

Delete entry and replace with “Commandant, Defense Nuclear Weapons School, Defense Threat Reduction Agency, 1900 Wyoming Boulevard, SE, Kirtland Air Force Base, Albuquerque, NM 87117-5669.”

Notification procedure:

Delete address and replace with “General Counsel, Defense Threat Reduction Agency, 8725 John J. Kingman Road, Fort Belvoir, VA 22060-6201.”

Record access procedures:

Delete address and replace with “General Counsel, Defense Threat Reduction Agency, 8725 John J. Kingman Road, Fort Belvoir, VA 22060-6201.”

Contesting record procedures:

Delete address and replace with “General Counsel, Defense Threat Reduction Agency, 8725 John J. Kingman Road, Fort Belvoir, VA 22060-6201.”

* * * * *

HDTRA 004

System name:

Nuclear Weapons Accident Exercise Personnel Radiation Exposure Records

System location:

Defense Nuclear Weapons School, Defense Threat Reduction Agency, 1900 Wyoming Boulevard, SE, Kirtland Air Force Base, Albuquerque, NM 87117-5669.

Categories of individuals covered by the system:

Military and civilian employees of the Department of Defense and other federal, state, and local government agencies, contractor personnel, and visitors from foreign countries, who participated in planned exercises.

Categories of records in the system:

Name; Social Security Number; date of birth; service; grade/rank; specialty code; job series or profession; experience with radioactive materials such as classification as ‘radiation worker;’ use of film badge or other dosimetric device; respiratory protection equipment; training and actual work in anti-contamination clothing and respirators; awareness of radiation risks associated with exercises; previous radiation exposure; role in exercise; employer/organization mailing address and telephone; unit responsible for individuals radiation exposure records; time in exercise radiological control area; and external and internal radiation monitoring and/or dosimetry results.

Authority for maintenance of the system:

42 U.S.C. 2013 and 2201 (Atomic Energy Act of 1954) and 10 CFR parts 10 and 20; 5 U.S.C. 7902 and 84 Stat. 1599 (Occupational Safety and Health Act of 1970) and 29 CFR Subparts 1910.20 and 1910.96; E.O. 12196, as amended, February 26, 1980, (Occupational Safety and Health Programs for Federal Employees); E.O. 9397 (SSN); U.S. Environmental Protection Agency, Radiation Protection Guidance for Federal Agencies for Occupational Exposure, January 1987; and Air Force Instruction 48-125, The Air Force Personnel Dosimetry Program.

Purpose(s):

For use by agency officials and employees in determining and evaluating individual and exercise collective radiation doses and in reporting dosimetry results to individuals.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Officials and employees of other government agencies, authorized government contractors, current or potential employers, national, state and local government organizations and foreign governments in the performance of official duties related to evaluating, reporting and documenting radiation dosimetry data.

Officials of government investigatory agencies in the performance of official duties relating to enforcement of Federal rules and regulations.

The ‘Blanket Routine Uses’ published at the beginning of DTRA's compilation of systems of records notices apply to this system.

Policies and practices for storing, retrieving, assessing, retaining, and disposing of records in the system:

Storage:

Records are stored on computer printouts and in paper files folders.

Retrievability:

Records may be retrieved by names, Social Security Number, service or organization, grade/rank, dosimeter number, or date and place of participation.

Safeguards:

Records and computer printouts are available only to authorized persons with an official need to know. The files are in a secure office area with limited access during duty hours. The office is locked during non-duty hours.

Retention and disposal:

All records are retained permanently.

System manager(s) and address:

Commandant, Defense Nuclear Weapons School, Defense Threat Reduction Agency, 1900 Wyoming Boulevard, SE, Kirtland Air Force Base, Albuquerque, NM 87117-5669.

Notification procedure:

Individuals seeking to determine whether information about themselves is contained in this system of records should address written inquiries to the General Counsel, Defense Threat Reduction Agency, 8725 John J. Kingman Road, Fort Belvoir, VA 22060-6201.

Inquiry should contain full name and Social Security Number of the individual and applicable dates of participation, if available. Visits can be arranged with the system manager.

Record access procedures:

Individuals seeking access to information about themselves contained in this system of records should address inquiries to the General Counsel, Defense Threat Reduction Agency, 8725 John J. Kingman Road, Fort Belvoir, VA 22060-6201.

Inquiry should contain full name and Social Security Number of the individual and applicable dates of participation, if available. Visits can be arranged with the system manager. Requests from current or potential employers must include a signed authorization from the individual.

Contesting record procedures:

The DTRA rules for accessing records and for contesting contents and appealing initial agency determinations are published in DTRA Instruction 5400.11B; 32 CFR part 318; or may be obtained from the General Counsel, Defense Threat Reduction Agency, 8725 John J. Kingman Road, Fort Belvoir, VA 22060-6201.

Record source categories:

Information in this system of records was supplied directly by the individual; or derived from information supplied by the individual; or supplied by a contractor or government dosimetry service; or developed by radiation measurements at the exercise site.

Exemptions claimed for the system:

None.

[FR Doc. 05-16774 Filed 8-23-05; 8:45 am]

BILLING CODE 5001-06-U